DEPARTMENT OF COMMERCE

International Trade Administration

(A-351-828)

Certain Hot-Rolled, Flat-Rolled Carbon Quality Steel Products from Brazil: Preliminary Notice of Intent to Rescind Administrative Review

AGENCY: Import Administration, International Trade Administration, Department of Commerce.

SUMMARY: In response to a request from Nucor Corporation, a domestic interested party (“Nucor”), the Department of Commerce (“the Department”) initiated an administrative review of the antidumping duty order on certain hot-rolled, flat-rolled carbon quality steel products (“hot rolled steel”) from Brazil. This review covers two manufacturer/exporters of the subject merchandise, Companhia Siderurgica Nacional (“CSN”) and Companhia Siderurgica de Tubarao (“CST”), and covers the period March 1, 2007, through February 29, 2008. The Department intends to rescind this review after determining that the parties subject to this review did not have entries during the period of review (“POR”) upon which to assess antidumping duties.

EFFECTIVE DATE: September 3, 2008.

FOR FURTHER INFORMATION CONTACT: John Drury or Angelica Mendoza, AD/CVD Operations, Office 7, Import Administration, International Trade Administration, U.S. Department of Commerce, 14th Street and Constitution Avenue, NW, Washington, DC 20230; telephone (202) 482-0195 or (202) 482-3019, respectively.

SUPPLEMENTARY INFORMATION: The Department published an antidumping duty order on hot rolled steel from Brazil on March 12, 2002. See Antidumping Duty Order: Certain Hot-Rolled Flat-Rolled Carbon Quality Steel Products from Brazil, 67 FR 11093 (March 12, 2002). The Department published a notice of “Opportunity to Request an Administrative Review” of the antidumping duty order for the period March 1, 2007, through February 29, 2008, on March 3, 2008. See Antidumping or Countervailing Duty Order, Finding, or Suspended Investigation; Opportunity To Request Administrative Review, 73 FR 11389 (March 3, 2008). Nucor requested that the Department conduct an administrative review of sales of merchandise covered by the order by CSN and CST on March 31, 2008. In response to the request from Nucor, the Department published the initiation of the antidumping duty administrative review on hot rolled steel from Brazil on April 25, 2008, pursuant to section 751(a) of the Tariff Act of 1930, as amended (“the Act”). See Initiation of Antidumping and Countervailing Duty Administrative Reviews and Request for Revocation in Part, 73 FR 22337 (April 25, 2008).

On April 29, 2008, CSN submitted a letter to the Department stating that it had no shipments of hot rolled steel to the United States during the POR. On May 12, 2008, CST submitted a letter to the Department stating that it had no shipments of hot rolled steel to the United States during the POR. The Department issued a “No Shipment Inquiry” to U.S. Customs and Border Protection (“CBP”) on June 3, 2008, to confirm that there were no shipments or entries of hot rolled steel from Brazil exported by CSN and CST during the POR of the instant administrative review. CBP only responds to the Department's inquiry when CBP finds that there have been shipments. CBP did not respond to the Department's inquiry, and no party submitted comments. Based on this information, on June 24, 2008, the Department determined that neither CSN nor CST had any shipments or entries of hot rolled steel from Brazil during the review period. See Memorandum to the File, through Angelica Mendoza, Program Manager, from John Drury, Senior Case Analyst: Companhia Siderurgica Nacional (CSN) and Companhia Siderurgica de Tubarao (CST) - No Shipments of Hot-Rolled, Flat-Rolled Carbon Quality Steel Products from Brazil Pursuant to U.S. Customs and Border Protection Inquiry, dated June 24, 2008.

Scope of the Order

For purposes of this order, the products covered are certain hot-rolled flat-rolled carbon-quality steel products of a rectangular shape, of a width of 0.5 inch or greater, neither clad, plated, nor coated with metal and whether or not painted, varnished, or coated with plastics or other non-metallic substances, in coils (whether or not in successively superimposed layers) regardless of thickness, and in straight lengths, of a thickness less than 4.75 mm and of a width measuring at least 10 times the thickness. Universal mill plate (i.e., flat-rolled products rolled on four faces or in a closed box pass, of a width exceeding 150 mm, but not exceeding 1250 mm and of a thickness of not less than 4 mm, not in coils and without patterns in relief) of a thickness not less than 4.0 mm is not included within the scope of this order.

Specifically included in this scope are vacuum degassed, fully stabilized (commonly referred to as interstitial-free (“IF”)) steels, high strength low alloy (“HSLA”) steels, and the substrate for motor lamination steels. IF steels are recognized as low carbon steels with micro-alloying levels of elements such as titanium and/or niobium added to stabilize carbon and nitrogen elements. HSLA steels are recognized as steels with micro-alloying levels of elements such as chromium, copper, niobium, titanium, vanadium, and molybdenum. The substrate for motor lamination steels contains micro-alloying levels of elements such as silicon and aluminum.

Steel products to be included in the scope of this order, regardless of HTSUS definitions, are products in which: (1) iron predominates, by weight, over each of the other contained elements; (2) the carbon content is 2 percent or less, by weight; and (3) none of the elements listed below exceeds the quantity, by weight, respectively indicated:1.80 percent of manganese, or 1.50 percent of silicon, or 1.00 percent of copper, or 0.50 percent of aluminum, or 1.25 percent of chromium, or 0.30 percent of cobalt, or 0.40 percent of lead, or 1.25 percent of nickel, or 0.30 percent of tungsten, or 0.012 percent of boron, or 0.10 percent of molybdenum, or 0.10 percent of niobium, or 0.41 percent of titanium, or 0.15 percent of vanadium, or 0.15 percent of zirconium.

All products that meet the physical and chemical description provided above are within the scope of this order unless otherwise excluded. The following products, by way of example, are outside and/or specifically excluded from the scope of this order:

• Alloy hot-rolled steel products in which at least one of the chemical elements exceeds those listed above (including e.g., ASTM specifications A543, A387, A514, A517, and A506).

• SAE/AISI grades of series 2300 and higher.

• Ball bearing steels, as defined in the HTSUS.

• Tool steels, as defined in the HTSUS.

• Silico-manganese (as defined in the HTSUS) or silicon electrical steel with a silicon level exceeding 1.50 percent.

• ASTM specifications A710 and A736.

• USS Abrasion-resistant steels (USS AR 400, USS AR 500).

• Hot-rolled steel coil which meets the following chemical, physical and mechanical specifications:

C | Mn | P | S | Si | Cr | Cu | Ni
0.10- | 0.90 | 0.025 | 0.005 | 0.30 | 0.3 | 0.2 | 0.20
0.14%% | %% | %% Max | %% | - | 0 - | 0 - | %%

Width = 44.80 inches maximum; Thickness = 0.063-0.198 inches; Yield Strength = 50,000 ksi minimum; Tensile Strength = 70,000-88,000 psi.

• Hot-rolled steel coil which meets the following chemical, physical and mechanical specifications:

C | Mn | P | S | Si | Cr | Cu | Ni
0.10- | 0.70 - | 0.025%% | 0.006 | 0.30 - | 0.3 | 0.25 | 0.20
0.16 | 0.90 | Max | %% | 0.50 | 0 - | %% | %%
%% | %% |  | Max | %% | 0.5 | Max | Max
Mo |  |  |  |  | 0%% |  |
0.21 |  |  |  |  |  |  |
%% |  |  |  |  |  |  |
Max |  |  |  |  |  |  |

Width = 44.80 inches maximum; Thickness = 0.350 inches maximum; Yield Strength = 80,000 ksi minimum; Tensile Strength = 105,000 psi Aim.

• Hot-rolled steel coil which meets the following chemical, physical and mechanical specifications:

C | Mn | P | S | Si | Cr | Cu | Ni
0.10- | 1.30 - | 0.025%% | 0.005 | 0.30 - | 0.5 | 0.20 | 0.20
0.14 | 1.80 | Max | %% | 0.50 | 0 - | - | %%
%% | %% |  | Max | %% | 0.7 | 0.40 | Max
V(wt) | Cb |  |  |  | 0%% | %% |
0.10 | 0.08 |  |  |  |  |  |
%% | %% |  |  |  |  |  |
Max | Max |  |  |  |  |  |

Width = 44.80 inches maximum; Thickness = 0.350 inches maximum; Yield Strength = 80,000 ksi minimum; Tensile Strength = 105,000 psi Aim.

• Hot-rolled steel coil which meets the following chemical, physical and mechanical specifications.

C | Mn | P | S | Si | Cr | Cu | Ni
0.15%% | 1.4 | 0.025 | 0.010 | 0.50 | 1.0 | 0.5 | 0.20
Max | 0%% | %% Max | %%Max | %% | 0%% | 0%% | %%
Nb | Max | Al |  | Max | Ma | Max | Max
0.005 | Ca | 0.01 - |  |  | x |  |
%% Min | Treated | 0.70%% |  |  |  |  |

Width = 39.37 inches; Thickness = 0.181 inches maximum; Yield Strength = 70,000 psi minimum for thickness 0.148 inches and 65,000 psi minimum for “thicknesses” > 0.148 inches; account for 64 FR 38650; Tensile Strength = 80,000 psi minimum.

• Hot-rolled dual phase steel, phase-hardened, primarily with a ferritic-martensitic microstructure, contains 0.9 percent up to and including 1.5 percent silicon by weight, further characterized by either (i) tensile strength between 540 N/mm² and 640 N/mm² and an elongation percentage ≥ 26 percent for thicknesses of 2 mm and above, or (ii) a tensile strength between 590 N/mm² and 690 N/mm² and an elongation percentage ≥ 25 percent for thicknesses of 2 mm and above.

• Hot-rolled bearing quality steel, SAE grade 1050, in coils, with an inclusion rating of 1.0 maximum per ASTM E 45, Method A, with excellent surface quality and chemistry restrictions as follows: 0.012 percent maximum phosphorus, 0.015 percent maximum sulfur, and 0.20 percent maximum residuals including 0.15 percent maximum chromium.

• Grade ASTM A570-50 hot-rolled steel sheet in coils or cut lengths, width of 74 inches (nominal, within ASTM tolerances), thickness of 11 gauge (0.119 inch nominal), mill edge and skin passed, with a minimum copper content of 0.20%%.

The merchandise subject to this order is currently classified in the Harmonized Tariff Schedule of the United States (“HTSUS”) at subheadings: 7208.10.15.00, 7208.10.30.00, 7208.10.60.00, 7208.25.30.00, 7208.25.60.00, 7208.26.00.30, 7208.26.00.60, 7208.27.00.30, 7208.27.00.60, 7208.36.00.30, 7208.36.00.60, 7208.37.00.30, 7208.37.00.60, 7208.38.00.15, 7208.38.00.30, 7208.38.00.90, 7208.39.00.15, 7208.39.00.30, 7208.39.00.90, 7208.40.60.30, 7208.40.60.60, 7208.53.00.00, 7208.54.00.00, 7208.90.00.00, 7210.70.30.00, 7210.90.90.00, 7211.14.00.30, 7211.14.00.90, 7211.19.15.00, 7211.19.20.00, 7211.19.30.00, 7211.19.45.00, 7211.19.60.00, 7211.19.75.30, 7211.19.75.60, 7211.19.75.90, 7212.40.10.00, 7212.40.50.00, 7212.50.00.00. Certain hot-rolled flat-rolled carbon-quality steel covered by this order, including: vacuum degassed, fully stabilized; high strength low alloy; and the substrate for motor lamination steel may also enter under the following tariff numbers: 7225.11.00.00, 7225.19.00.00, 7225.30.30.50, 7225.30.70.00, 7225.40.70.00, 7225.99.00.90, 7226.11.10.00, 7226.11.90.30, 7226.11.90.60, 7226.19.10.00, 7226.19.90.00, 7226.91.50.00, 7226.91.70.00, 7226.91.80.00, and 7226.99.00.00. Although the HTSUS subheadings are provided for convenience and Customs purposes, the written description of the merchandise under this order is dispositive.

Intent To Rescind Administrative Review

Pursuant to 19 CFR § 351.213(d)(3), the Department may rescind an administrative review if it concludes that during the POR there were no entries, exports, or sales of the subject merchandise. The Department's practice, supported by substantial precedent, requires that there be entries during the POR upon which to assess antidumping duties. See, e.g., Stainless Steel Bar from Italy: Preliminary Results and Partial Rescission of Administrative Review, 70 FR 17656 (April 7, 2005) affirmed in Stainless Steel Bar from Italy: Final Results of Antidumping Duty Administrative Review and Rescission of Review, 70 FR 46480 (August 10, 2005).

Both CSN and CST certified that they had no entries of subject merchandise during the 2007-2008 POR, which the Department confirmed on the basis of official data from CBP. Therefore, we have preliminarily determined to rescind the 2007-2008 administrative review.

Public Comment

Interested parties may submit case briefs not later than 20 days after the date of publication of this notice. See 19 CFR § 351.309(c). Rebuttal briefs, which must be limited to issues raised in such briefs, must be filed not later than 7 days from the case brief after the date of publication of this notice. See 19 CFR § 351.309(d). Parties who submit arguments are requested to submit with the argument (1) a statement of the issue, (2) a brief summary of the argument, and (3) a table of authorities. Further, parties submitting written comments should provide the Department with an additional copy of the public version of any such comments on diskette. An interested party may request a hearing within 20 days of publication of this notice. Any hearing, if requested, will be held 34 days after the date of publication of this notice, or the first working day thereafter. See 19 CFR § 351.310. We will issue our final decision concerning the conduct of the review no later than 120 days from the date of publication of this notice.

This notice is published in accordance with section 777(i)(1) of the Act and 19 CFR § 351.213(d)(4).

Dated: August 25, 2008.
Stephen J. Claeys,
Deputy Assistant Secretary for Import Administration.

[FR Doc. E8-20403 Filed 9-2-08; 8:45 am]

BILLING CODE 3510-DS-S